NUCLEAR REGULATORY COMMISSION

[NRC-2016-0101]

Superseded or Outdated Generic Communications

AGENCY: Nuclear Regulatory Commission.

ACTION: Generic communications; withdrawal.

SUMMARY: The U.S. Nuclear Regulatory Commission (NRC) is withdrawing selected generic communications because they have been superseded or they contain information that is no longer applicable.

DATES: The effective date of the withdrawals is May 20, 2016.

ADDRESSES: Please refer to Docket ID NRC-2016-0101 when contacting the NRC about the availability of information regarding this document. You may obtain publicly-available information related to this document using any of the following methods:

• Federal Rulemaking Web site: Go to http://www.regulations.gov and search for Docket ID NRC-2016-0101. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Angela M. Baxter, Office of Nuclear Reactor Regulation, U.S. Nuclear Regulatory Commission, Washington, DC 20555-0001; telephone: 301-415-2976; email: Angela.Baxter@nrc.gov.

SUPPLEMENTARY INFORMATION:

I. Discussion

The NRC is withdrawing selected generic communications because they have been superseded or they contain information that is no longer applicable. The withdrawal includes the original generic communication and any supplements or revisions. The NRC plans to publish withdrawals of selected generic communications on a quarterly basis until all generic communications are brought up to date. A withdrawal does not change licensee commitments to the document. The withdrawn generic communications will not be available for use in the future. The generic communications Web site (http://www.nrc.gov/reading-rm/doc-collections/gen-comm/) will be updated to reflect the withdrawals. The following generic communications are withdrawn:

• Generic communications regarding the “Operator Licensing Examination Schedule” and “Preparation and Scheduling of Operator Licensing Examinations” are withdrawn because the NRC routinely requests updates from licensee's regarding its licensing examination schedule. Each generic communication on this topic supersedes the previous request. These generic communications include: Generic Letter (GL) 1983-01, GL 1983-40, GL 1985-04, GL 1985-18, GL 1986-14, GL 1987-14, GL 1988-13, GL 1989-03, GL 1990-07, GL 1991-12, GL 1992-06, Administrative Letter (AL) 1993-03, AL 1994-12, AL 1996-01, AL 1997-02, AL 1999-03, Regulatory Issue Summary (RIS) 2000-14, RIS 2001-17, RIS 2002-09, RIS 2003-14, RIS 2004-10, RIS 2005-19, RIS 2006-15, RIS 2007-17, RIS 2008-16, RIS 2009-11, RIS 2010-08, RIS 2011-04, RIS 2012-07, RIS 2013-06, and RIS 2014-05.

• AL 1993-02, “Implementing the Revised Systematic Assessment of Licensee Performance (SALP) Program,” and AL 1998-07, “Interim Suspension of the Systematic Assessment of Licensee Performance (SALP) Program,” are withdrawn because the Commission approved termination of the SALP program in the staff requirements memorandum for SECY-00-0049, “Results of the Revised Oversight Process Pilot Program,” dated February 24, 2000.

• AL 1993-04, “Announcement of Forthcoming Public Meetings on Whistleblower Protection Activities,” is withdrawn because these meetings have been held. There is no summary or transcript available for these meetings.

• AL 1993-05, “Announcement of Public Workshop on the Form and Content of Design Certification Rules,” is withdrawn. The workshops were held and the transcript is publicly available in ADAMS (see “Availability of Documents” section).

• AL 1994-01, “Forthcoming NRC Meeting with Industry to Discuss the Potential for Pressure Locking and Thermal Binding of Gate Valves,” is withdrawn because the meeting has been held. There is no summary or transcript available for this meeting.

• AL 1994-04, “Change of the NRC Operations Center Commercial Telephone and Facsimile Numbers,” and AL 1995-01, “Change in Commercial Telephone and Facsimile Numbers at Nuclear Regulatory Commission Headquarters,” are withdrawn because the changes and updates have been implemented and distributed. The current telephone numbers at the NRC Headquarters and Operations Center are available on the NRC's public Web site, http://www.nrc.gov/about-nrc/contactus/.

• AL 1994-05, “Notification Concerning Changes to 10 CFR part 55” [part 55 of title 10 of the Code of Federal Regulations, “Operators' Licenses”], is withdrawn because it was for notification only.

• AL 1994-08, “Consolidation of the NRC Region V and Region IV Offices,” is withdrawn because the consolidation has taken place. A list of current NRC Headquarters and Regional offices is available on the NRC's public Web site, http://www.nrc.gov.

• AL 1994-10, “Distribution of NUREG-1478, `Non-Power Reactor Operator Licensing Examiner Standards,' ” is withdrawn because the distribution was for information only. To view the latest version of NUREG-1478, please go to http://www.nrc.gov/reading-rm/doc-collections/nuregs/staff/sr1478/.

• AL 1994-13, “Access to Nuclear Regulatory Commission Bulletin Board Systems,” is withdrawn because availability of the NRC bulletin board system has been superseded by the NRC public Web site and list server program. To stay current with news and information from the NRC, you may subscribe to multiple automatic updates by email, including RSS feeds, GovDelivery subscription services, and Lyris subscription services. To enroll, or for more information about the individual updates available, please go to http://www.nrc.gov/public-involve/listserver.html.

• AL 1994-14, “Distribution of Supplement to NUREG-1021, `Operator Licensing Examiner Standards,' ” is withdrawn because the distribution was for information only. To view the latest version of NUREG-1021, please go to http://www.nrc.gov/reading-rm/doc-collections/nuregs/staff/sr1021/.

• AL 1994-15, “Reorganization of the Office of Nuclear Reactor Regulation,” and AL 1999-01, “Reorganization of the Office of Nuclear Reactor Regulation,” are withdrawn because the reorganization has been accomplished. For current organizational information, including branch level functional statements and an organization chart for the Office of Nuclear Reactor Regulation, please go to http://www.nrc.gov/about-nrc/organization/nrrfuncdesc.html. To view current organizational information and functional descriptions for all offices within the NRC, please go to http://www.nrc.gov/about-nrc/organization.html.

• AL 1994-17, “Addressing Correspondence to the NRC,” is withdrawn. AL 1994-17 indicates that all written correspondence is to be addressed to the NRC's Document Control Desk to ensure the correspondence is entered into the NRC's Nuclear Document Control System (NUDOCS). The NRC staff no longer uses NUDOCS; ADAMS is the current records management system.

• AL 1995-05, “Revisions to Staff Guidance for Implementing NRC Policy on Notices of Enforcement Discretion,” is withdrawn because it has been superseded by RIS 2005-01, Revision 1, “Changes to Notice of Enforcement Discretion Process and Staff Guidance,” which transmits NRC Inspection Manual Chapter 0410, “Notices of Enforcement Discretion,” dated March 13, 2013.

• AL 1998-02, “Revisions to Event Reporting Guidelines for Power Reactors,” is withdrawn because this information is now available on the NRC's public Web site. For a complete listing of NRC reports associated with events, please go to http://www.nrc.gov/reading-rm/doc-collections/event-status/event/.

• AL 1998-05, “Availability of Summaries in Electronic Format of Technical Reports by the Office for Analysis and Evaluation of Operational Data,” is withdrawn because this information is now available on the NRC's public Web site. For a complete listing of reports or brochures on regulatory decisions, results of research, results of incident investigations, and other technical and administrative information, please go to http://www.nrc.gov/reading-rm/doc-collections/nuregs/.

• AL 1998-08, “Availability of Revised NRC Form 3, `Notice to Employees,' and Closure of NRC Walnut Creek Field Office,” is withdrawn. AL 1999-04, “Availability of Revised NRC Form 3, `Notice to Employees,' ” transmitted a revised version of Form 3 and is also withdrawn. To view a current version of NRC Form 3 (5/2012), please go to http://www.nrc.gov/reading-rm/doc-collections/forms/nrc3.pdf. A list of current NRC Headquarters and Regional offices is available on NRC's public Web site, http://www.nrc.gov/about-nrc/locations.html.

• GL 1991-18, Revision 1, “Information to Licensees Regarding NRC Inspection Manual Section on Resolution of Degraded and Nonconforming Condition,” is withdrawn. GL 1991-18 has been superseded by RIS 2005-20, Revision 2, “Revision to NRC Inspection Manual Part 9900 Technical Guidance—`Operability Determination & Functionality Assessments for Resolution of Degraded or Nonconforming conditions Adverse to Quality for Safety,' ” which announced Inspection Manual Chapter 0326 as the current operating guidance.

II. Availability of Documents

The documents identified in the following table are available to interested persons as indicated.

Document | ADAMS Accession No.
Generic Letter 1983-01, “Operator Licensing Examination Site Visit,” January 11, 1983 | ML031080134
Generic Letter 1983-40, “Operator Licensing Examinations,” December 21, 1983 | ML031080565
Generic Letter 1985-04, “Operator Licensing Examinations,” January 29, 1985 | ML031150585
Generic Letter 1985-18, “Operator Licensing Examinations,” September 27, 1985 | ML031150718
Generic Letter 1986-14, “Operator Licensing Examinations,” August 20, 1986 | ML031150264
Generic Letter 1987-14, “Operator Licensing Examinations,” August 4, 1987 | ML031150510
Generic Letter 1988-13, “Operator Licensing Examinations,” August 8, 1988 | ML031150402
Generic Letter 1989-03, “Operator Licensing National Examination Schedule,” March 24, 1989 | ML031150236
Generic Letter 1990-07, “Operator Licensing National Examination Schedule,” August 10, 1990 | ML031210427
Generic Letter 1991-12, “Operator Licensing National Examination Schedule,” August 27, 1991 | ML031200673
Generic Letter 1992-06, “Operator Licensing National Examination Schedule,” September 16, 1992 | ML031130412
Administrative Letter 1993-03, “Operator Licensing National Examination Schedule,” September 7, 1993 | ML031110448
Administrative Letter 1994-12, “Operator Licensing National Examination Schedule,” September 12, 1994 | ML031110484
Administrative Letter 1996-01, “Operator Licensing National Examination Schedule,” January 9, 1996 | ML031110125
Administrative Letter 1997-02, “Elimination of National Examination Schedule for Operator Licensing,” March 6, 1997 | ML031110165
Administrative Letter 1999-03, “Preparation and Scheduling of Operator Licensing Examinations,” August 20, 1999 | ML031110127
Regulatory Issue Summary 2000-14, “Preparation and Scheduling of Operator Licensing Examinations,” September 6, 2000 | ML003743535
Regulatory Issue Summary 2001-17, “Preparation and Scheduling of Operator Licensing Examinations,” August 22, 2001 | ML012110294
Regulatory Issue Summary 2002-09, “Preparation and Scheduling of Operator Licensing Examinations,” June 6, 2002 | ML021570110
Regulatory Issue Summary 2003-14, “Preparation and Scheduling of Operator Licensing Examinations,” August 27, 2003 | ML032370311
Regulatory Issue Summary 2004-10, “Preparation and Scheduling of Operator Licensing Examinations,” June 14, 2004 | ML041400040
Regulatory Issue Summary 2005-19, “Preparation and Scheduling of Operator Licensing Examinations,” August 24, 2005 | ML052080128
Regulatory Issue Summary 2006-15, “Preparation and Scheduling of Operator Licensing Examinations,” August 14, 2006 | ML061870141
Regulatory Issue Summary 2007-17, “Preparation and Scheduling of Operator Licensing Examinations,” July 12, 2007 | ML071500449
Regulatory Issue Summary 2008-16, “Preparation and Scheduling of Operator Licensing Examinations,” June 27, 2008 | ML081160148
Regulatory Issue Summary 2009-11, “Preparation and Scheduling of Operator Licensing Examinations,” July 16, 2009 | ML091470309
Regulatory Issue Summary 2010-08, “Preparation and Scheduling of Operator Licensing Examinations,” June 28, 2010 | ML101460195
Regulatory Issue Summary 2011-04, “Preparation and Scheduling of Operator Licensing Examinations,” May 25, 2011 | ML111170337
Regulatory Issue Summary 2012-07, “Preparation and Scheduling of Operator Licensing Examinations,” June 8, 2012 | ML120650174
Regulatory Issue Summary 2013-06, “Preparation and Scheduling of Operator Licensing Examinations,” June 7, 2013 | ML13098A074
Regulatory Issue Summary 2014-05, “Preparation and Scheduling of Operator Licensing Examinations,” April 29, 2014 | ML14042A493
Administrative Letter 1993-02, “Implementing the Revised Systematic Assessment of Licensee Performance (SALP) Program,” August 30, 1993 | ML031110437
Administrative Letter 1998-07, “Interim Suspension of the Systematic Assessment of Licensee Performance (SALP) Program,” October 2, 1998 | ML031110141
SECY-00-0049, “Results of the Revised Reactor Oversight Process Pilot Program,” February 24, 2000 | ML003683227
Administrative Letter 1993-04, “Announcement of Forthcoming Public Meetings on Whistleblower Protection Activities,” September 9, 1993 | ML031110440
Administrative Letter 1993-05, “Announcement of Public Workshop on the Form and Content of Design Certification Rules,” October 29, 1993 | ML031110443
Transcript, “Workshop on Certification on Evolutionary LWR [light-water reactor] Designs,” November 23, 1993 | ML003708102
Administrative Letter 1994-01, “Forthcoming NRC Meeting with Industry to Discuss the Potential for Pressure Locking and Thermal Binding of Gate Valves,” January 13, 1994 | ML031110544
Administrative Letter 1994-04, “Change of the NRC Operations Center Commercial Telephone and Facsimile Numbers,” April 11, 1994 | ML031110536
Administrative Letter 1995-01, “Change in Commercial Telephone and Facsimile Numbers at Nuclear Regulatory Commission Headquarters,” January 23, 1995 | ML031110341
Administrative Letter 1995-01, Supplement 1, “Change in Commercial Telephone and Facsimile Numbers at Nuclear Regulatory Commission Headquarters,” February 2, 1995 | ML031110337
Administrative Letter 1994-05, “Notification Concerning Changes to 10 CFR Part 55,” April 25, 1994 | ML031110529
Administrative Letter 1994-08, “Consolidation of the NRC Region IV and Region V Offices,” July 13, 1994 | ML031110511
Administrative Letter 1994-10, “Distribution of NUREG-1478, `Non-Power Reactor Operator Licensing Examiner Standards,' ” August 17, 1994 | ML031110506
Administrative Letter 1994-13, “Access to Nuclear Regulatory Commission Bulletin Board Systems,” September 13, 1994 | ML031110480
Administrative Letter 1994-13, “Access to Nuclear Regulatory Commission Bulletin Board Systems,” Rev. 1, June 29, 1995 | ML031110460
Administrative Letter 1994-13, “Access to Nuclear Regulatory Commission Bulletin Board Systems,” Rev. 2, May 3, 1996 | ML031110472
Administrative Letter 1994-14, “Distribution of Supplement [7] to NUREG-1021, `Operator Licensing Examiner Standards,' ” September 22, 1994 | ML031110450
Administrative Letter 1994-15, “Reorganization of the Office of Nuclear Reactor Regulation,” October 6, 1994 | ML031110444
Administrative Letter 1999-01, “Reorganization of the Office of Nuclear Reactor Regulation,” April 9, 1999 | ML031110145
Administrative Letter 1994-17, “Addressing Correspondence to the NRC,” December 15, 1994 | ML031110347
Administrative Letter 1995-05, “Revisions to Staff Guidance for Implementing NRC Policy on Notices of Enforcement Discretion,” November 7, 1995 | ML031200349
Administrative Letter 1995-05, Revision 1, “Revisions to Staff Guidance for Implementing NRC Policy on Notices of Enforcement Discretion,” February 19, 1999 | ML031110281
Administrative Letter 1995-05, Revision 2, “Revisions to Staff Guidance for Implementing NRC Policy on Notices of Enforcement Discretion,” July 27, 1999 | ML031210366
Regulatory Issue Summary 2005-01, Revision 1, “Changes to Notice of Enforcement Discretion Process and Staff Guidance,” March 13, 2013 | ML12163A492
Administrative Letter 1998-02, “Revisions to Event Reporting Guidelines for Power Reactors,” March 17, 1998 | ML031110223
Administrative Letter 1998-05, “Availability of Summaries in Electronic Format of Technical Reports by the Office for Analysis and Evaluation of Operational Data,” August 3, 1998 | ML031110160
Administrative Letter 1998-08, “Availability of Revised NRC Form 3, `Notice to Employees' and Closure of NRC Walnut Creek Field Office,” October 9, 1998 | ML031110130
Administrative Letter 1999-04, “Availability of Revised NRC Form 3, `Notice to Employees,' ” September 10, 1999 | ML031110112
Generic Letter 1991-18, “Information to Licensees Regarding Two NRC Inspection Manual Sections on Resolution of Degraded and Nonconforming Conditions and on Operability,” November 7, 1991 | ML031140549
Generic Letter 1991-18, Revision 1, “Information to Licensees Regarding NRC Inspection Manual Section on Resolution of Degraded and Nonconforming Conditions,” October 8, 1997 | ML031200701
Regulatory Issue Summary 2005-20, Revision 2, “Revision to NRC Inspection Manual Part 9900 Technical Guidance—`Operability Determinations & Functionality Assessments for Resolution of Degraded or Nonconforming Conditions Adverse to Quality or Safety,' ” June 5, 2015 | ML15106A484

Dated at Rockville, Maryland, this 17th day of May, 2016.
For the Nuclear Regulatory Commission.
Sheldon Stuchell,
Chief, Generic Communications Branch, Division of Policy and Rulemaking, Office of Nuclear Reactor Regulation.

[FR Doc. 2016-11994 Filed 5-19-16; 8:45 am]

BILLING CODE 7590-01-P